FEDERAL COMMUNICATIONS COMMISSION

47 CFR Part 73

[MB Docket No. 18-383; RM-11822; DA 18-1267]

Television Broadcast Services; Cookeville and Franklin, Tennessee

AGENCY: Federal Communications Commission.

ACTION: Proposed rule.

SUMMARY: At the request of ION Media License Company, LLC. (ION), licensee of television station WNPX-TV, channel 36, Cookeville, Tennessee (WNPX), the Commission is proposing to amend the Post-Transition Table of DTV Allotments by changing WNPX's community of license from Cookeville to Franklin, Tennessee, pursuant to section 1.420(i) of the Commission's rules. ION asserts that the proposed reallotment is consistent with the Commission's second allotment priority by providing Franklin with its first local transmission service. ION also asserts that the proposed reallotment will not deprive Cookeville of its sole broadcast station because it will continue to be served by station WCTE(TV), licensed to Upper Cumberland Broadcast Council, on channel *22 at Cookeville.

DATES: Comments must be filed on or before February 15, 2019 and reply comments on or before February 25, 2019.

ADDRESSES: Federal Communications Commission, Office of the Secretary, 445 12th Street SW, Washington, DC 20554. In addition to filing comments with the FCC, interested parties should serve counsel for petitioner as follows: ION Media License Company, LLC., c/o Terri McGalliard, 601 Clearwater Park Road, West Palm Beach, Florida 33401.

FOR FURTHER INFORMATION CONTACT: Darren Fernandez, Media Bureau, at Darren.Fernandez@fcc.gov; or Joyce Bernstein, Media Bureau, at Joyce.Bernstein@fcc.gov.

SUPPLEMENTARY INFORMATION: This is a synopsis of the Commission's Notice of Proposed Rulemaking, MB Docket No. 18-383; RM-11822; DA 18-1267, adopted December 19, 2018, and released December 19, 2018. The full text of this document is available for public inspection and copying during normal business hours in the FCC's Reference Information Center at Portals II, CY-A257, 445 12th Street SW, Washington, DC 20554, or online at http://apps.fcc.gov/ecfs/. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See § 1.415 and 1.420 of the Commission's rules for information regarding the proper filing procedures for comments, 47 CFR 1.415 and 1.420.

List of Subjects in 47 CFR Part 73

Television.

Federal Communications Commission.
Barbara Kreisman,
Chief, Video Division, Media Bureau.

Proposed Rule

For the reasons discussed in the preamble, the Federal Communications Commission proposes to amend 47 CFR part 73 as follows:

PART 73—Radio Broadcast Service

1. The authority citation for part 73 continues to read as follows:

Authority: 47 U.S.C. 154, 303, 334, 336, and 339.

§ 73.622 (Amended)

§ 73.622(i) is amended as follows:

2. The Post-Transition Table of DTV Allotments under Tennessee, by removing Cookeville, channel 36, and adding, in alphabetical order, Franklin, channel 26.

[FR Doc. 2019-00606 Filed 1-30-19; 8:45 am]

BILLING CODE 6712-01-P